DEPARTMENT OF ENERGY

Federal Energy Regulatory Commission

[Docket Nos. RM01-8-000; ER02-2001-000]

Revised Public Utility Filing Requirements, Electric Quarterly Reports; Supplemental Notice of Electric Quarterly Reports Technical Conference

February 21, 2008.

On January 7, 2008, the Commission issued a Notice of Electric Quarterly Reports (EQR) Technical Conference regarding recent changes associated with the EQR Data Dictionary. During the technical conference, Commission staff will review the EQR Data Dictionary and address questions from EQR users. An agenda for the conference is attached.

On September 24, 2007, the Commission issued Order No. 2001-G, the Electric Quarterly Report (EQR) Data Dictionary.¹ The Commission issued an order on rehearing, Order No. 2001-H, on December 21, 2007. These orders may be found at http://elibrary.ferc.gov.

¹ Revised Public Utility Filing Requirements for Electric Quarterly Reports, Order No. 2001-G, 120 FERC ¶ 61,270 (Sep. 24, 2007), 72 Fed. Reg. 56735 (Oct. 4, 2007).

The technical conference will be held Tuesday, February 26, 2008, in the Commission Meeting Room at 888 First Street, NE., Washington, DC and via teleconference. The conference will run from 10 a.m. to 3 p.m. (EST).

All interested persons are invited to participate in the technical conference by attending in person or by dialing in. Those interested in participating are asked to register on the FERC Web site at https://www.ferc.gov/whats-new/registration/eqr-02-26-form.asp. Please indicate whether you will be attending in person or plan to dial in. There is no registration fee. Information and further details about the technical conference will be sent to registered participants.

For additional information, please contact Christie Kim of FERC's Office of Enforcement at (202) 502-8216 or by e-mail at eqr@ferc.gov.

FERC conferences and meetings are accessible under section 508 of the Rehabilitation Act of 1973. Requests for accessibility accommodations should be sent by e-mail to accessibility@ferc.gov or by calling toll free (866) 208-3372 (voice), 202-502-8659 (TTY), or by sending a fax to 202-208-2106.

Kimberly D. Bose,
Secretary.

[FR Doc. E8-3722 Filed 2-27-08; 8:45 am]

BILLING CODE 6717-01-P